ENVIRONMENTAL PROTECTION AGENCY

40 CFR Part 52

[EPA-R05-OAR-2007-0292; FRL-8442-9]

Approval and Promulgation of Air Quality Implementation Plans; Indiana

AGENCY: Environmental Protection Agency (EPA).

ACTION: Direct final rule.

SUMMARY: EPA is approving Indiana's requests to amend its State Implementation Plan (SIP) for control of particulate matter in 326 IAC 6.5-7-13. Indiana submitted the SIP revision requests to EPA on November 1, 2005 and March 20, 2007. The revisions would change the source name from St. Mary's to Holy Cross Services Corporation (Saint Mary's Campus), and clarify and revise existing particulate matter (PM) emission limits for the boilers at that source to reflect current operating conditions. These revisions will not result in an increase in PM.

DATES: This direct final rule will be effective September 28, 2007, unless EPA receives adverse comments by August 29, 2007. If adverse comments are received, EPA will publish a timely withdrawal of the direct final rule in the Federal Register informing the public that the rule will not take effect.

ADDRESSES: Submit your comments, identified by Docket ID No. EPA-R05-OAR-2007-0292, by one of the following methods:

1. http://www.regulations.gov: Follow the on-line instructions for submitting comments.

2. E-mail: mooney.john@epa.gov.

3. Fax: (312) 886-5824.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2007-0292. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Charles Hatten, Environmental Engineer, at (312) 886-6031 before visiting the Region 5 office.

FOR FURTHER INFORMATION CONTACT: Charles Hatten, Environmental Engineer, Criteria Pollutant Section, Air Programs Branch (AR-18J), Environmental Protection Agency, Region 5, 77 West Jackson Boulevard, Chicago, Illinois 60604, (312) 886-6031, Hatten.Charles@epa.gov.

SUPPLEMENTARY INFORMATION: Throughout this document whenever “we,” “us,” or “our” is used, we mean EPA. This supplementary information section is arranged as follows:

I. To Whom Does This Action Apply?

II. What Is EPA Approving?

III. What Are the Changes from the Current Rule?

IV. What Action Is EPA Taking?

V. Statutory and Executive Order Reviews.

I. To Whom Does This Action Apply?

This action applies to Holy Cross Services Corporation (Saint Mary's Campus), Notre Dame, Indiana.

II. What Is EPA Approving?

EPA is approving revisions to Indiana's PM SIP for the three boilers located in St. Joseph County, Notre Dame, Indiana. The revisions address Title 326 of the Indiana Administrative Code (IAC), Rule 6.5-7, Section 13, to clarify and amend existing PM emission limits. They also change the source name from St. Mary's to Holy Cross Services Corporation (Saint Mary's Campus).

Indiana held public hearings on these revisions February 2, and June 1, 2005; June 7, and August 2, 2006.

III. What Are the Changes From the Current Rule?

On March 22, 2006 (71 FR 14383), EPA published a direct final rule approving revisions to the Indiana SIP in 326 IAC 6.5-7 to relocate and recodify PM emission limits for all sources in St. Joseph County, Indiana. Today's action revises 326 IAC 6.5-7, Section 13, which contains particulate emission limits for the boilers at St. Mary's College in Notre Dame, Indiana, to reflect current operating conditions and ownership by Holy Cross Services Corporation of those boilers.

Currently, SIP rule 326 IAC 6.5-7-13 identifies St. Mary's College as the owner, operator and permittee of the subject boilers. It also incorrectly lists boiler number 1 as 100% natural gas-fired, and boilers number 2 and 3 as coal-fired. According to Indiana, however, boilers numbers 1 and 2 are actually gas-fired, with the capability of burning number 2 fuel oil as a back-up, while boiler number 3 exclusively burns natural gas. The revised rule corrects this error. It also tightens the applicable PM limits for the two boilers that have oil-burning capability (boilers number 1 and 2): from 0.110 lbs/MMBTU (12.90 tons/year) to 0.014 lbs/MMBTU (3.9 tons/year).

Finally, the SIP revision amends 326 IAC 6.5-7-13 by correctly identifying the owner, operator and permittee of the St. Mary's boilers as Holy Cross Services.

IV. What Action is EPA Taking?

EPA is approving source-specific revisions to Indiana's PM SIP in 326 IAC 6.5-7 to change the name of the owner, operator and permittee of the three boilers at St. Mary's College to Holy Cross Services Corporation (Saint Mary's Campus), and to revise the PM limits to reflect current operating conditions of the boilers at St. Mary's College.

We are publishing this action without prior proposal because we view this as a noncontroversial amendment and anticipate no adverse comments. However, in the proposed rules section of this Federal Register publication, we are publishing a separate document that will serve as the proposal to approve the state plan if relevant adverse written comments are filed. This rule will be effective September 28, 2007 without further notice unless we receive relevant adverse written comments by August 29, 2007. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective September 28, 2007.

V. Statutory and Executive Order Reviews

Executive Order 12866: Regulatory Planning and Review

Under Executive Order 12866 (58 FR 51735, October 4, 1993), this action is not a “significant regulatory action” and, therefore, is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act (CAA).

Executive Order 13045: Protection of Children From Environmental Health and Safety Risks

This rule also is not subject to Executive Order 13045 “Protection of Children from Environmental Health Risks and Safety Risks” (62 FR 19885, April 23, 1997), because it approves a state rule implementing a Federal Standard.

National Technology Transfer Advancement Act

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by September 28, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, PM, Reporting and recordkeeping requirements.

Dated: July 11, 2007.
Bharat Mathur,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart P—Indiana

2. § 52.770 is amended by adding paragraph (c)(180) to read as follows:

§ 52.770 Identification of plan.

* * * * *

(c) * * *

(180) On November 1, 2005, and supplemented on March 20, 2007, the State of Indiana submitted a source specific revision to its state implementation plan for control of particulate matter in Title 326 of the Indiana Administrative Code (IAC), Rule 6.5-7, Section 13, which contains particulate matter emission limits for Holy Cross Services Corporation, to reflect current operating conditions of the boilers at St. Mary's College, located in Notre Dame, Indiana. The revision in 326 IAC 6.5-7-13 also changes the source name from St. Mary's to Holy Cross Services Corporation (Saint Mary's Campus).

(i) Incorporation by reference. Indiana Administrative Code Title 326: Air Pollution Control Board, Article 6.5: PM Limitations Except Lake County, Rule 7: St. Joseph County, Section 13: Holy Cross Services Corporation (Saint Mary's Campus). Approved by the Attorney General January 18, 2007. Approved by the Governor January 23, 2007. Filed with the Publisher January 26, 2007. Published on the Indiana Register Web site February 14, 2007, Document Identification Number (DIN):20070214-IR-326060121FRA. Effective February 25, 2007.

* * * * *

[FR Doc. E7-14476 Filed 7-27-07; 8:45 am]

BILLING CODE 6560-50-P